DEPARTMENT OF HEALTH AND HUMAN SERVICES

Centers for Disease Control

Decision To Evaluate a Petition To Designate a Class of Employees From the Y-12 Plant in Oak Ridge, Tennessee, To Be Included in the Special Exposure Cohort

AGENCY: National Institute for Occupational Safety and Health (NIOSH), Centers for Disease Control and Prevention, Department of Health and Human Services.

ACTION: Notice.

SUMMARY: NIOSH gives notice of a decision to evaluate a petition to designate a class of employees from the Y-12 Plant in Oak Ridge, Tennessee, to be included in the Special Exposure Cohort under the Energy Employees Occupational Illness Compensation Program Act of 2000.

FOR FURTHER INFORMATION CONTACT: Stuart L. Hinnefeld, Director, Division of Compensation Analysis and Support, National Institute for Occupational Safety and Health, 1090 Tusculum Avenue, MS C-46, Cincinnati, OH 45226-1938, Telephone 877-222-7570. Information requests can also be submitted by email to DCAS@CDC.GOV.

SUPPLEMENTARY INFORMATION:

Authority: 42 CFR 83.9-83.12.

Pursuant to 42 CFR 83.12, the initial proposed definition for the class being evaluated, subject to revision as warranted by the evaluation, is as follows:

Facility: Y-12 Plant.

Location: Oak Ridge, Tennessee.

Job Titles and/or Job Duties: All laborers who worked in any area at the Y-12 Plant in Oak Ridge, Tennessee, fabricating or processing uranium during the period from January 1, 1977, through December 31, 1994.

Period of Employment: January 1, 1977 through December 31, 1994.

John J. Howard,
Director, National Institute for Occupational Safety and Health.

[FR Doc. 2019-05586 Filed 3-22-19; 8:45 am]

BILLING CODE 4163-19-P